DEPARTMENT OF LABOR

Employment and Training Administration

[TA-W-63,360]

Motorola, Inc., Fort Worth, TX; Notice of Termination of Investigation

Pursuant to Section 221 of the Trade Act of 1974, as amended, an investigation was initiated on May 9, 2008 in response to a petition filed on behalf of workers of Motorola, Inc., Fort Worth, Texas.

The workers are covered under an existing certification (TA-W-62,897) issued for all workers of Motorola, Inc., Integrated Supply Chain Division, Fort Worth, Texas, which expires on April 2, 2010. Consequently, further investigation in this case would serve no purpose and the investigation has been terminated.

Signed at Washington, DC, this 17th day of June, 2008.
Linda G. Poole,
Certifying Officer, Division of Trade Adjustment Assistance.

[FR Doc. E8-14303 Filed 6-24-08; 8:45 am]

BILLING CODE 4510-FN-P